FEDERAL COMMUNICATIONS COMMISSION

[CG Docket No. 03-123; DA 07-4924]

Consumer & Governmental Affairs Bureau Seeks Comment on Petition for Clarification Concerning the Provision of Deaf Blind Relay Service (DBRS)

AGENCY: Federal Communications Commission.

ACTION: Notice.

SUMMARY: In this document, the Commission's Consumer & Governmental Affairs Bureau (Bureau) seeks comment on a petition for clarification filed by Hawk Relay (Hawk) concerning the provision of Deaf Blind Relay Service (DBRS Petition). Specifically, the Bureau seeks comment on whether DBRS falls within the definition of Telecommunications Relay Services (TRS) as set forth in section 225 of the Communications Act of 1934.

DATES: Comments are due on or before February 4, 2008. Reply comments are due on or before February 19, 2008.

ADDRESSES: Interested parties may submit comments identified by [CG Docket No. 03-123 and/or DA 07-4924], by any of the following methods:

• Electronic Filers: Comments may be filed electronically using the Internet by accessing the Commission's Electronic Comment Filing System (ECFS), through the Commission's Web site: http://www.fcc.gov/cgb/ecfs/, or the Federal eRulemaking Portal: http://www.regulations.gov. Filers should follow the instructions provided on the website for submitting comments. For ECFS filers, in completing the transmittal screen, filers should include their full name, U.S. Postal Service mailing address, and CG Docket No. 03-123. Parties may also submit an electronic comment by Internet e-mail. To get filing instructions, filers should send an e-mail to ecfs@fcc.gov, and include the following words in the body of the message, “get form <your e-mail address>.” A sample form and directions will be sent in response.

• Paper Filers: Parties who choose to file by paper must file an original and four copies of each filing. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial mail sent by overnight mail (other than U.S. Postal Service Express Mail and Priority Mail) must be sent to 9300 East Hampton Drive, Capitol Heights, MD 20743.

• U.S. Postal Service first-class, Express, and Priority mail should be addressed to 445 12th Street, SW., Washington, DC 20554.

Parties who choose to file by paper should also submit their filings on compact disc. The compact disc should be submitted, along with three paper copies to: Dana Wilson, Consumer & Governmental Affairs Bureau, Disability Rights Office, 445 12th Street, SW., Room 3-C418, Washington, DC 20554. Such a submission should be on a compact disc formatted in an IBM compatible format using Word 2003 or a compatible software. The compact disc should be accompanied by a cover letter and should be submitted in “read only” mode. The compact disc should be clearly labeled with the commenter's name, proceeding (CG Docket No. 03-123), type of pleading (comment or reply comment), date of submission, and the name of the electronic file on the compact disc. The label should also include the following phrase “CD-Rom Copy—Not an Original.” Each compact disc should contain only one party's pleadings, preferably in a single electronic file. In addition, commenters filing by paper must send a compact disc copy to the Commission's duplicating contractor at Portals II, 445 12th Street, SW., Room CY-B402, Washington, DC 20554.

FOR FURTHER INFORMATION CONTACT: Alan Amann, Consumer & Governmental Affairs Bureau, Disability Rights Office, at (202) 418-1022 (voice), (202) 418-2540 (TTY), or e-mail at Alan.Amann@fcc.gov.

SUPPLEMENTARY INFORMATION: This is a summary of the Commission's document DA 07-4924. Pursuant to 47 CFR 1.415 and 1.419, interested parties may file comments and reply comments on or before the dates indicated in the DATES section.

Pursuant to 47 CFR 1.1206, this matter shall be treated as a “permit-but-disclose” proceeding in which ex parte communications are subject to disclosure.

The full text of document DA 07-4924 and copies of any subsequently filed documents in this matter will be available for public inspection and copying during regular business hours at the FCC Reference Information Center, Portals II, 445 12th Street, SW., Room CY-A257, Washington, DC 20554. Document DA 07-4924 and copies of subsequently filed documents in this matter may also be purchased from the Commission's duplicating contractor at Portals II, 445 12th Street, SW., Room CY-B402, Washington, DC 20554; the contractor's Web site, http://www.bcpiweb.com; or by calling (800) 378-3160. Document DA 07-4924 and subsequently filed documents in this matter may also be found by searching ECFS at http://www.fcc.gov/cgb/ecfs (insert CG Docket No. 03-123 into the Proceeding block).

To request materials in accessible formats for people with disabilities (Braille, large print, electronic files, audio format), send an e-mail to fcc504@fcc.gov or call the Consumer & Governmental Affairs Bureau at (202) 418-0530 (voice), (202) 418-0432 (TTY). Document DA 07-4924 can also be downloaded in Word or Portable Document Format (PDF) at: http://www.fcc.gov/cgb/dro/trs.html.

Synopsis

On May 18, 2007, Hawk filed its DBRS Petition for clarification proposing DBRS as a form of TRS compensable from the Interstate TRS Fund. As described by Hawk, its proposed DBRS would use an interpreter (a “Communications Facilitator” (CF)) to sit with the deaf/blind user, place or receive conventional voice-to-voice telephone calls on his or her behalf, and interpret the ensuing conversation(s). The CF would travel to the DBRS consumer's location to assist in placing the call. Alternatively, a DBRS consumer could travel to a regional DBRS center to place a call through a CF.

The Bureau seeks comment on the DBRS Petition, including, specifically, whether DBRS falls within the definition of TRS as set forth in section 225(a)(3) of the Communications Act of 1934, 47 U.S.C. 225(a)(3). The Bureau notes, for example, that Hawk's proposed DBRS does not fit within the typical two-leg relay paradigm in which a relay center receives and places inbound and outbound calls between the end users to the relay call. Instead, the DBRS would employ a CF to assist the caller, in person, in making a telephone call.

Federal Communications Commission.
Nicole McGinnis,
Deputy Chief, Consumer & Governmental Affairs Bureau.

[FR Doc. E7-25648 Filed 1-3-08; 8:45 am]

BILLING CODE 6712-01-P